DEPARTMENT OF DEFENSE

Office of the Secretary

Defense Science Board Task Force on Future of DoD Airborne High-Frequency Radar Needs/Resources

ACTION: Notice of Advisory Committee Meetings.

SUMMARY: The Defense Science Board Task Force on Future of DoD Airborne High-Frequency Radar Needs/Resources will meet in closed session on July 12-13, 2000; July 19-20, 2000; July 26-27, 2000; and August 2-3, 2000. All meetings are scheduled to be held at SAIC, 4001 N. Fairfax Drive, Arlington, Virginia.

The mission of the Defense Science Board is to advise the Secretary of Defense through the Under Secretary of Defense for Acquisition, Technology & Logistics on scientific and technical matters as they affect the perceived needs of the Department of Defense. At these meetings, the Task Force will focus on the use of airborne X-band radars to serve the broad mission areas of air defense and ground surveillance. It will review the overall architectural approaches for DoD programs in advanced air defense with an emphasis on theater cruise missile defense, as well as all elements of the kill chain with a focus on the needs for airborne X-band ESA systems. The Task Force will also review the architectural approaches for DoD programs in advanced ground surveillance with an emphasis on airborne X-band ESA sensors.

In accordance with Section 10(d) of the Federal Advisory Committee Act, P.L. No. 92-463, as amended (5 U.S.C. App. II, (1994)), it has been determined that these DSB Task Force meetings concern matters listed in 5 U.S.C. 552b(c)(1) (1994), and that accordingly these meetings will be closed to the public. However, due to critical mission requirements for a report by August, the Task Force is unable to provide timely notice of the above mentioned meetings.

Dated: July 6, 2000.
C.M. Robinson
Alternate OSD Federal Register Liaison Officer, Department of Defense.

[FR Doc. 00-17662 Filed 7-12-00; 8:45 am]

BILLING CODE 5001-10-M